DEPARTMENT OF LABOR

Employment and Training Administration

[TA-W-62,875]

Bolton Metal Products Co. Bellefonte, PA; Notice of Revised Determination on Reconsideration

On April 21, 2008, the Department issued an Affirmative Determination Regarding Application on Reconsideration applicable to workers and former workers of the subject firm. The notice was published in the Federal Register on April 25, 2008 (73 FR 22434).

The previous investigation initiated on February 21, 2008, resulted in a negative determination issued on March 19, 2008, was based on the finding that, during the relevant period, imports of brass rod, wire, and low melt alloys did not contribute importantly to worker separations at the subject firm and no shift of production to a foreign source occurred. The denial notice was published in the Federal Register on April 24, 2008 (73 FR 22170).

In the request for reconsideration, the petitioner provided additional information regarding production at the subject firm, imports and customers.

Upon further investigation the Department requested an additional list of customers from the subject firm. New information revealed that Bolton Metal Products Co., Bellefonte, Pennsylvania supplies brass rod, wire and low melt alloys for hydraulic fittings produced by the primary firm, and a loss of business with a domestic manufacturer (whose workers were certified eligible to apply for adjustment assistance) contributed importantly to the workers' separation or threat of separation.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I determine that workers of Bolton Metal Products Co., Bellefonte, Pennsylvania qualify as adversely affected secondary workers under Section 222 of the Trade Act of 1974, as amended. In accordance with the provisions of the Act, I make the following certification:

All workers of Bolton Metal Products Co., Bellefonte, Pennsylvania, who became totally or partially separated from employment on or after February 18, 2007, through two years from the date of this certification, are eligible to apply for adjustment assistance under Section 223 of the Trade Act of 1974, and are also eligible to apply for alternative trade adjustment assistance under Section 246 of the Trade Act of 1974.

Signed in Washington, DC this 9th day of May 2008.
Elliott S. Kushner,
Certifying Officer, Division of Trade Adjustment Assistance.

[FR Doc. E8-10883 Filed 5-14-08; 8:45 am]

BILLING CODE 4510-FN-P